DEPARTMENT OF THE INTERIOR

National Park Service

[NPS-WASO-NAGPRA-18066; PPWOCRADN0-PCU00RP14.R50000]

Notice of Inventory Completion: Robert S. Peabody Museum of Archaeology, Phillips Academy, Andover, MA

AGENCY: National Park Service, Interior.

ACTION: Notice.

SUMMARY: The Robert S. Peabody Museum of Archaeology has completed an inventory of associated funerary objects, in consultation with the appropriate Indian tribes or Native Hawaiian organizations, and has determined that there is a cultural affiliation between the associated funerary objects and present-day Indian tribes or Native Hawaiian organizations. Lineal descendants or representatives of any Indian tribe or Native Hawaiian organization not identified in this notice that wish to request transfer of control of these associated funerary objects should submit a written request to the Robert S. Peabody Museum of Archaeology. If no additional requestors come forward, transfer of control of the associated funerary objects to the lineal descendants, Indian tribes, or Native Hawaiian organizations stated in this notice may proceed.

DATES: Lineal descendants or representatives of any Indian tribe or Native Hawaiian organization not identified in this notice that wish to request transfer of control of these associated funerary objects should submit a written request with information in support of the request to the Robert S. Peabody Museum of Archaeology at the address in this notice by May 28, 2015.

ADDRESSES: Dr. Ryan J. Wheeler, Robert S. Peabody Museum of Archaeology, Phillips Academy, 180 Main Street, Andover, MA 01810, telephone (978) 749-4490, email rwheeler@andover.edu.

SUPPLEMENTARY INFORMATION: Notice is here given in accordance with the Native American Graves Protection and Repatriation Act (NAGPRA), 25 U.S.C. 3003, of the completion of an inventory of associated funerary objects under the control of the Robert S. Peabody Museum of Archaeology, Phillips Academy, Andover, MA. The associated funerary objects were removed from the Nevin site at Blue Hill in Hancock County, ME.

This notice is published as part of the National Park Service's administrative responsibilities under NAGPRA, 25 U.S.C. 3003(d)(3). The determinations in this notice are the sole responsibility of the museum, institution, or Federal agency that has control of the Native American associated funerary objects. The National Park Service is not responsible for the determinations in this notice.

Consultation

A detailed assessment of the associated funerary objects was made by the Robert S. Peabody Museum of Archaeology professional staff in consultation with representatives of the Aroostook Band of Micmacs (previously listed as the Aroostook Band of Micmac Indians); Houlton Band of Maliseet Indians; Passamaquoddy Tribe; and the Penobscot Nation (previously listed as the Penobscot Tribe of Maine).

History and Description of the Associated Funerary Objects

In 1936 and 1937, human remains representing, at minimum, 19 individuals were removed from the Nevin site, Hancock County, ME. The Nevin site is located on Mill Island in the town of Blue Hill, along Blue Hill Bay. The site was investigated by Douglas Byers and Frederick Johnson as part of their study of the Nevin shell mound from 1936 through 1940; in March 1941, the human remains were transferred on loan to the Peabody Museum of Archaeology and Ethnology at Harvard University, Cambridge, MA (a completely separate institution from the Robert S. Peabody Museum of Archaeology and referred to here as the Harvard Peabody) and control was transferred in two separate instances on June 28, 1989 and August 8, 1997. The Robert S. Peabody Museum of Archaeology retained control of the associated funerary objects. Byers describes the excavation of twelve graves containing the burials of 22 to 27 individuals; in some cases human remains were not collected. The Harvard Peabody has detailed information on the human remains; also see the Harvard Peabody's two entries for “Bluehill Falls, Nevin Shellheap” in the Culturally Unidentifiable (CUI) Native American Inventories Database maintained on the National NAGPRA Program Web site. The 462 associated funerary objects are stone adze (4), antler tool (2), birch bark fragment (9), pileated woodpecker beak (1), beaver tooth and tooth fragments (16), stone biface (1), faunal remains, teeth and bone fragments (188), animal teeth and fragments (31), antler flaking tool (1), bone flaking tool (1), bird bone flute (1), harpoon foreshaft (3), stone gouge (3), hammerstone (6), animal tooth, incisor (4), mink jaw fragments (2), modified mineral fragments, iron (1), red ochre and soil (1), bone pendant (2), perforated animal teeth and fragments (34), perforators, awls, daggers, pikes, knives, and needles of bone, including fragments (100), stone plummet (6), bone point (2), stone bayonet and fragments (2), bone harpoons (9), stone projectile point (1), polishing stone (1), iron pyrites (9), scraper or flesher of bone (1), soil sample (2), swordfish rostrum (1), deer antler socket (1), unmodified stone (1), porpoise vertebra and fragments (12), and hammerstone and iron pyrites with fragments (3). An additional 52 associated funerary objects are currently missing; the missing associated funerary objects are beaver tooth (2), biface (3), animal bone fragment (4), stone gouge (1), miscellaneous faunal remains (18), perforated animal tooth fragments (16), bone perforator (6), and bone point (2).

Information about the Nevin site is found in Douglas Byers's report, The Nevin Shellheap: Burials and Observations (1979), in the extensive fieldnotes of the Nevin site project on file at the Robert S. Peabody Museum of Archaeology, Lesley Shaw's article “A Biocultural Evaluation of the Skeletal Population from the Nevin Site, Blue Hill, Maine” (1988), Brian Robinson's Ph.D. dissertation Burial Ritual, Groups, and Boundaries on the Gulf of Maine, 8600-3800 B.P. (2001), Bruce J. Bourque and Harold W. Krueger's book chapter “Dietary Reconstruction from Human Bone Isotopes for Five Coastal New England Populations” (1994), and in the files of the Maine Historic Preservation Commission, Maine Archaeological Survey (site #042.001). Byers suggests that the site was associated with a tidal reversing falls, an unusual natural phenomenon created by tidal flow funneled through a narrow channel, creating high standing waves. Radiocarbon dates and material culture affirm that the Nevin site burials are part of the Late Archaic Late Moorehead Burial Tradition, circa 4,000 to 3,700 B.P. Burial in a shell mound contributed to preservation of both the human remains and associated funerary objects of animal bone. Occupation of the Nevin shell mound pre-dates the interments and continued well into the Woodland period. At least one of the burials from Nevin is believed to be from this later Woodland occupation (see Shaw, 1988).

Affiliation of the Nevin site associated funerary objects with the contemporary Wabanaki tribes is based on the following lines of evidence: geographical, biological, archeological, linguistic, folklore, and oral tradition. Oral history narratives that place the origins of the Penobscot, Passamaquoddy, and Maliseet in Maine are often tied to specific places, landscape features, and ecological zones characteristic of Maine. These oral history narratives are significant in affiliating the Penobscot, Passamaquoddy, and Maliseet with the Nevin site, especially as archeological evidence is equivocal regarding connections. Long term occupation and re-occupation of places, like the Nevin site, along with the significance of place-names, canoe and trail routes, and landscape features reaffirm Wabanaki connections and may reflect more ancient traditions of aggregation in certain places. Contemporary archeological theory recognizes that shell mounds, like the Nevin site, as symbolically charged and highly visible monuments, and also recognize the long temporal use of such monuments (for example, see Paul R. Fish et al. on shell mounds as persistent places in the 2013 book The Archaeology and Historical Ecology of Small Scale Economies, edited by Victor D. Thompson and James C. Waggoner Jr.). Continuity between ancient and contemporary indigenous people is supported by the long temporal occupation of the Nevin shell mound by both Archaic and Woodland cultures.

Archeologist Bonnie Newsom (2008) conducted interviews with Maine archeologists regarding their ideas and opinions on NAGPRA and affiliation, especially as it relates to the 1000 year rule proposed by the Maine Historical Commission. The opinions of archeologists range from absolute certainty that there is no way to affiliate the Nevin site with contemporary tribes to more moderate views that recognize the archeological evidence is equivocal. One archeologist interviewed by Newsom expressed the opinion that the Susquehanna Tradition did represent an intrusion into the area that lasted for about 1,000 years and cited their research on bone artifacts to support this statement. That archeologist further noted it seemed unlikely that the more ancient population had been completely replaced by Susquehanna people.

Anthropological perspectives regarding affiliation of the Wabanaki peoples with the cultures of the Late Archaic are consistent with the contemporary viewpoint of the Wabanaki. Three anthropologists who have worked closely with the Wabanaki were interviewed about the affiliation of contemporary Maine tribes and the Moorehead Tradition; all three stated that Wabanaki oral tradition is a reliable source of information and that narratives are often tied to specific landscape features, with language and stories reflecting a long presence in Maine. Additional information about each line of evidence used in this determination is on file at the Robert S. Peabody Museum of Archaeology.

Determinations Made by the Robert S. Peabody Museum of Archaeology

Officials of the Robert S. Peabody Museum of Archaeology have determined that:

• Pursuant to 25 U.S.C. 3001(3)(A), the 514 objects described in this notice are reasonably believed to have been placed with or near individual human remains at the time of death or later as part of the death rite or ceremony. Only the 462 associated funerary objects that have been located are eligible for transfer of control at this time.

• Pursuant to 25 U.S.C. 3001(2), there is a relationship of shared group identity that can be reasonably traced between the Native American associated funerary objects and the Aroostook Band of Micmacs (previously listed as the Aroostook Band of Micmac Indians); Houlton Band of Maliseet Indians; Passamaquoddy Tribe; and the Penobscot Nation (previously listed as the Penobscot Tribe of Maine).

Additional Requestors and Disposition

Lineal descendants or representatives of any Indian tribe or Native Hawaiian organization not identified in this notice that wish to request transfer of control of these associated funerary objects should submit a written request with information in support of the request to Dr. Ryan J. Wheeler, Robert S. Peabody Museum of Archaeology, Phillips Academy, 180 Main Street, Andover, MA 01810, telephone (978) 749-4490, email rwheeler@andover.edu, by May 28, 2015. After that date, if no additional requestors have come forward, transfer of control of the associated funerary objects to the Aroostook Band of Micmacs (previously listed as the Aroostook Band of Micmac Indians); Houlton Band of Maliseet Indians; Passamaquoddy Tribe; and the Penobscot Nation (previously listed as the Penobscot Tribe of Maine) may proceed.

The Robert S. Peabody Museum of Archaeology is responsible for notifying the Aroostook Band of Micmacs (previously listed as the Aroostook Band of Micmac Indians); Houlton Band of Maliseet Indians; Passamaquoddy Tribe; and the Penobscot Nation (previously listed as the Penobscot Tribe of Maine) that this notice has been published.

Dated: April 7, 2015.
Mariah Soriano,
Acting Manager, National NAGPRA Program.

[FR Doc. 2015-09911 Filed 4-27-15; 8:45 am]

BILLING CODE 4312-50-P